DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal Zone Management Program Administration.

OMB Control Number: 0648-0119.

Form Number(s): NA.

Type of Request: Regular submission (revision and extension of a current information collection).

Number of Respondents: 34.

Average Hours per Response: Performance management tracking, 27 hours; performance reports range from 1 to 34 hours, depending on the program; Section 306a application checklist and documentation, 5 hours; amendments and program change documentation, 16 hours; Section 309 Strategy and Assessment documentation, 240 hours; Coastal Nonpoint Pollution Program documentation, 320 hours.

Burden Hours: 9,704.

Needs and Uses: This request is for revision and extension of a currently approved information collection.

In 1972, in response to intense pressure on United States (U.S) coastal resources, and because of the importance of U.S. coastal areas, the U.S. Congress passed the Coastal Zone Management Act of 1972 (CZMA), 16 U.S.C. 1451 et seq. The CZMA authorized a federal program to encourage coastal states and territories to develop comprehensive coastal management programs. The CZMA has been reauthorized on several occasions, most recently with the enactment of the Coastal Zone Protection Act of 1996. (CZMA as amended). The program is administered by the Secretary of Commerce, who in turn has delegated this responsibility to the National Oceanic and Atmospheric Administration's (NOAA) National Ocean Services (NOS).

The coastal zone management grants provide funds to states and territories to implement federally-approved coastal management programs; complete information for the Coastal Zone Management Program (CZMP) Performance Management System; revise assessment document and multi-year strategy; submit documentation as described in the CZMA Section 306a on the approved coastal zone management programs; submit request to approve amendments or program changes; and report on the states' coastal nonpoint source pollution programs (CNPSP).

Revision: There is new competitive grant funding under CZMA Section 309a, so that funding stream and required documentation will now be part of this information collection. For Section 309 Strategy Assessment, reports are due every 5 years now, rather than every 2 years. For Section 310, there is currently no funding.

Affected Public: State, local and tribal government.

Frequency: Annually, semi-annually and on occasion.

Respondent's Obligation: Required to retain or obtain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: August 17, 2012.
Gwellnar Banks,
Management Analyst, Office of the Chief Information Officer.

[FR Doc. 2012-20716 Filed 8-22-12; 8:45 am]

BILLING CODE 3510-08-P